DEPARTMENT OF THE INTERIOR

National Park Service

[NPS-PWRO-TUSK-32685; PPPWTUSK00, PPMPSPD1Z.YM0000]

Tule Springs Fossil Beds National Monument Advisory Council Notice of Public Meeting

AGENCY: National Park Service, Interior.

ACTION: Meeting notice.

SUMMARY: In accordance with the Federal Advisory Committee Act of 1972, the National Park Service is hereby giving notice that the Tule Springs Fossil Beds National Monument Advisory Council (Council) will meet as indicated below.

DATES: A teleconference will be held on Wednesday, November 10, 2021, at 5:00 p.m. until 7:00 p.m. (PACIFIC).

ADDRESSES: Information on how to access the meeting will be posted by November 5, 2021, to the Committee's website at https://www.nps.gov/tusk/index.htm.

FOR FURTHER INFORMATION CONTACT: Further information concerning the meeting may be obtained from Christie Vanover, Public Affairs Officer, Lake Mead National Recreation Area, 601 Nevada Way, Boulder City, Nevada 89005, via telephone at (702) 293-8691, or email at christie_vanover@nps.gov.

SUPPLEMENTARY INFORMATION: The Council was established pursuant to section 3092(a)(6) of Public Law 113-291 and in accordance with the provisions of the Federal Advisory Committee Act (5 U.S.C. appendix 1-16). The purpose of the Council is to advise the Secretary of the Interior with respect to the preparation and implementation of the management plan.

Purpose of the Meeting: The Council agenda will include:

1. Superintendent Update:

• Update on General Management Plan

• Update on Green Link West Project

2. TUSK Resource Updates

3. Subcommittee Reports

4. Old Business

5. New Business

6. Public Comments

The meeting is open to the public. Interested persons may make oral or written presentations to the Council during the business meeting or file written statements. Requests to address the Council should be made to the Superintendent prior to the meeting. Members of the public may submit written comments by mailing them to Derek Carter, Superintendent, Tule Springs Fossil Beds National Monument, 601 Nevada Way, Boulder City, NV 89005, or by email derek_carter@nps.gov. All written comments will be provided to members of the Council. Due to time constraints during the meeting, the Council is not able to read written public comments submitted into the record. Depending on the number of people who wish to speak and the time available, the time for individual comments may be limited.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. appendix 2.

Alma Ripps,
Chief, Office of Policy.

[FR Doc. 2021-23412 Filed 10-26-21; 8:45 am]

BILLING CODE 4312-52-P